DEPARTMENT OF THE INTERIOR

National Park Service

[NPS-NER-DEWA-29185; PS.SDEWA0040.001]

Boundary Adjustment at Delaware Water Gap National Recreation Area

AGENCY: National Park Service, Interior.

ACTION: Notification of boundary adjustment.

SUMMARY: The boundary of Delaware Water Gap National Recreation Area is adjusted to include two parcels of land totaling 45.22 acres of land, more or less. The fee simple interest in 44.11 acres will be donated to the United States by The Conservation Fund and the fee simple interest in 1.11 acres is already owned by the United States. These properties are located in Pike County and Monroe County, Pennsylvania, respectively.

DATES: The effective date of this boundary adjustment is June 24, 2020.

ADDRESSES: The map depicting this boundary adjustment is available for inspection at the following locations: National Park Service, Land Resources Program Center, Interior Region 1, 1234 Market Street, 20th Floor, Philadelphia, Pennsylvania 19107, and National Park Service, Department of the Interior, 1849 C Street NW, Washington, DC 20240.

FOR FURTHER INFORMATION CONTACT: Realty Officer Jennifer Cherry, National Park Service, Land Resources Program Center, Interior Region 1 at 115 John Street, 5th Floor, Lowell, Massachusetts 01852; telephone (978) 970-5260; email jennifer_cherry@nps.gov.

SUPPLEMENTARY INFORMATION: Notice is hereby given that, pursuant to 16 U.S.C. 460o-2(b), the boundary of Delaware Water Gap National Recreation Area is adjusted to include two properties totaling 45.22 acres of land in Pennsylvania: 44.11 acres are identified as Parcel No. 183.00-01-29.003—in Lehman Township, Pike County; and 1.11 acres that are a portion of the undeveloped roadways located south of Huckleberry Drive in Middle Smithfield Township, Monroe County. This boundary adjustment is depicted on Map No. 620/165,341 dated October, 2019.

Specifically, 16 U.S.C. 460o-2(b) states that the Secretary of the Interior may make adjustments to the boundary of Delaware Water Gap National Recreation Area by publication of the amended description thereof in the Federal Register: Provided, that the area encompassed by such revised boundary shall not exceed the acreage included within the detailed boundary first described in the Federal Register on June 7, 1977 (42 FR 29071-29103). This boundary adjustment does not exceed the acreage of the detailed boundary so described. The Conservation Fund owns the property in Pike County and will convey it to the United States without cost to help mitigate the effects of the upgrade and expansion of the Susquehanna-Roseland electric transmission line across approximately 4.3 miles of the National Recreation Area. The property in Monroe County is already owned by the United States pursuant to a prior conveyance from The Conservation Fund for the same purpose.

Gay Vietzke,
Regional Director, Interior Region 1.

[FR Doc. 2020-13650 Filed 6-23-20; 8:45 am]

BILLING CODE 4312-52-P